DEPARTMENT OF TRANSPORTATION

Federal Aviation Administration

14 CFR Part 39

[Docket No. FAA-2017-0714; Directorate Identifier 2017-NM-042-AD]

RIN 2120-AA64

Airworthiness Directives; Airbus Airplanes

AGENCY: Federal Aviation Administration (FAA), DOT.

ACTION: Notice of proposed rulemaking (NPRM).

SUMMARY: We propose to supersede Airworthiness Directive (AD) 2012-21-04, which applies to all Airbus Model A300 series airplanes; Model A310 series airplanes; and Model A300 B4-600, B4-600R, and F4-600R series airplanes, and Model A300 C4-605R Variant F airplanes (collectively called Model A300-600 series airplanes). AD 2012-21-04 currently requires repetitive inspections for, and replacement of, any cracked hood halves of fuel pump canisters. Since we issued AD 2012-21-04, we allowed inspections of the outer tank and trim tank fuel pump canister hood halves to be terminated. However, we have received reports of new in-service events of outer tank fuel pump canister hood cracking. This proposed AD would retain the requirements of AD 2012-21-04, reinstate the terminated inspections, and add optional terminating actions. We are proposing this AD to address the unsafe condition on these products.

DATES: We must receive comments on this proposed AD by September 18, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0714; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Comments Invited

We invite you to send any written relevant data, views, or arguments about this proposed AD. Send your comments to an address listed under the ADDRESSES section. Include “Docket No. FAA-2017-0714; Directorate Identifier 2017-NM-042-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 25, 2012, we issued AD 2012-21-04, Amendment 39-17220 (77 FR 64701, October 23, 2012) (“AD 2012-21-04”), for all Airbus Model A300 series airplanes; Model A310 series airplanes; and Model A300 B4-600, B4-600R, and Model A300-600 series airplanes. AD 2012-21-04 was prompted by reports of cracked fuel pump canister hoods located in fuel tanks. AD 2012-21-04 requires repetitive inspections for, and replacement of, any cracked hood halves of fuel pump canisters. We issued AD 2012-21-04 to prevent any detached canister hood fragments/debris from being ingested into the fuel feed system, and becoming a potential source of ignition with consequent fire or explosion.

Since we issued AD 2012-21-04 (which corresponds to European Aviation Safety Agency (EASA) AD 2011-0124, dated June 30, 2011), EASA has issued EASA AD 2011-0124R1, dated September 5, 2014. That EASA AD introduced optional terminating action for the wing inner and center fuel tanks, and cancelled the repetitive inspections of the fuel pump canister hood halves in outer wing and trim tanks, for which no cracks had been reported following the initial inspection. The FAA provided a global alternative method of compliance (AMOC) to AD 2012-21-04 providing relief to operators from conducting the inspection for the fuel pump canister hoods in the outer wing and trim tanks. Since the FAA provided the global AMOC, we have received reports of new in-service events of outer tank fuel pump canister hood cracking.

EASA has issued AD 2017-0051, dated March 23, 2017 (referred to after this as the Mandatory Continuing Airworthiness Information, or “the MCAI”), to correct an unsafe condition for all Airbus Model A300 series airplanes; Model A310 series airplanes; and Model A300-600 series airplanes. The MCAI states:

Reports were received of finding cracked fuel pump canister hoods located in fuel tanks on in-service aeroplanes. Initial analyses, laboratory testing and examinations suggested that vibration-induced fatigue could have caused these cracks. However, initial data could not exclude some other potential contributing factors.

This condition, if not detected and corrected, could lead to detached canister hood fragments or debris being ingested into the fuel feed system. In addition, metallic debris inside the fuel tank could result in a potential source of fuel vapour ignition, possibly resulting in a fire or fuel tank explosion and consequent loss of the aeroplane.

To address this potential unsafe condition, EASA issued AD 2011-0124 (later revised) [FAA AD 2012-21-04 corresponds to EASA AD 2011-0124] to require repetitive inspections of the canister hood halves installed on all fuel pump canisters and, if any damage was found, replacement. EASA AD 2011-0124R1 introduced an optional terminating action for the wing inner and centre fuel tanks, and cancelled the repetitive inspections of the fuel pump canister hoods in outer wing and trim tanks, for which no cracks had been reported following the initial inspection.

Since that [EASA] AD was issued, new in service events of outer tank fuel pump canister hood cracking have been reported. Consequently, the canister hoods of the outer tank fuel pumps and trim tank fuel pumps will need to be inspected.

For the reasons described above, this [EASA] AD retains the requirements of EASA AD 2011-0124R1, which is superseded, retaining the repetitive inspections of fuel pump canister hoods in wing inner and centre tanks, and reintroduces repetitive detailed inspections (DET) for outer tank and trim tank fuel pump canister hoods. This [EASA] AD also retains the existing optional terminating action for the repetitive DET of wing inner and centre tank fuel pump canister hoods, and introduces a new optional terminating action for the repetitive DET of the outer and trim tank fuel pump canister hoods required by this [EASA] AD.

You may examine the MCAI in the AD docket on the Internet at http://www.regulations.gov by searching for and locating Docket No. FAA-2017-0714.

Related Service Information Under 1 CFR Part 51

Airbus has issued the following service information.

• Airbus Mandatory Service Bulletin A300-28-0089, Revision 03, dated December 16, 2016. This service information describes procedures for repetitive detailed inspections of all fuel pump locations (center, wing-inner, and wing-outer tank), and replacing any cracked hood halves of fuel pump canisters.

• Airbus Service Bulletin A300-28-0092, Revision 01, dated August 29, 2014; Airbus Service Bulletin A300-28-6110, Revision 01, dated August 29, 2014; and Airbus Service Bulletin A310-28-2175, Revision 01, dated August 29, 2014. This service information describes procedures for replacement of the hood halves of the fuel pump canisters with newer design hood halves for the wing-inner tank and the center tank fuel pumps. These documents are distinct since they apply to different airplane models.

• Airbus Service Bulletin A300-28-0094, Revision 00, dated January 9, 2017. This service information describes procedures for replacement of the hood halves of the fuel pump canisters with newer design hood halves for the wing-outer tank.

• Airbus Mandatory Service Bulletin A300-28-6106, Revision 03, dated December 16, 2016; and Airbus Mandatory Service Bulletin A310-28-2173, Revision 03, dated December 16, 2016. This service information describes procedures for repetitive detailed inspections of all fuel pump locations (center, wing-inner, wing-outer, and trim tank), and replacing any cracked hood halves of fuel pump canisters. These documents are distinct since they apply to different airplane models.

• Airbus Service Bulletin A300-28-6114, Revision 00, dated January 9, 2017; and Airbus Service Bulletin A310-28-2178, Revision 00, January 9, 2017. This service information describes procedures for replacement of the hood halves of the fuel pump canisters with newer design hood halves for the wing-outer tank and the trim tank fuel pumps. These documents are distinct since they apply to different airplane models.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 168 airplanes of U.S. registry.

The actions required by AD 2012-21-04, and retained in this proposed AD take about 12 work-hours per product, at an average labor rate of $85 per work-hour. Based on these figures, the estimated cost of the actions that are required by AD 2012-21-04 is $1,020 per product.

We also estimate that it would take about 9 work-hours per product to comply with the new basic requirements of this proposed AD, at an average labor rate of $85 per work-hour. Based on these figures, we estimate the cost of the new basic requirements of this proposed AD on U.S. operators to be $128,520, or $765 per product.

In addition, we estimate that the optional terminating actions would take about 1 work-hour and require parts costing $255, for a cost of $340 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-21-04, Amendment 39-17220 (77 FR 64701, October 23, 2012), and adding the following new AD:

Airbus: Docket No. FAA-2017-0714; Directorate Identifier 2017-NM-042-AD.

(a) Comments Due Date

We must receive comments by September 18, 2017.

(b) Affected ADs

This AD replaces AD 2012-21-04, Amendment 39-17220 (77 FR 64701, October 23, 2012) (“AD 2012-21-04”).

(c) Applicability

This AD applies to the airplanes identified in paragraphs (c)(1), (c)(2), and (c)(3) of this AD, certificated in any category, all certificated models, all manufacturer serial numbers.

(1) Airbus Model A300 B2-1A, B2-1C, B2K-3C, B2-203, B4-2C, B4-103, and B4-203 airplanes.

(2) Airbus Model A310-203, -204, -221, -222, -304, -322, -324, and -325 airplanes.

(3) Airbus Model A300 B4-601, B4-603, B4-620, and B4-622 airplanes, Model A300 B4-605R and B4-622R airplanes, Model A300 F4-605R and F4-622R airplanes, and Model A300 C4-605R Variant F airplanes.

(d) Subject

Air Transport Association (ATA) of America Code 28, Fuel.

(e) Reason

This AD was prompted by reports of cracked fuel pump canister hoods located in fuel tanks and new in-service events of outer tank fuel pump canister hood cracking. We are issuing this AD to prevent any detached canister hood fragments/debris from being ingested into the fuel feed system, and becoming a potential source of ignition with consequent fire or explosion.

(f) Compliance

Comply with this AD within the compliance times specified, unless already done.

(g) Retained Initial Inspection and Replacement, With Revised Requirements and Service Information

This paragraph restates the requirements of paragraph (g) of AD 2012-21-04, with revised service information. Within 30 months after November 27, 2012 (the effective date of AD 2012-21-04), do a detailed inspection for cracking of the fuel pump canister hood halves installed on all wing center and inner tank fuel pump canisters having part numbers (P/N) 2052C11, 2052C12, and C93R51-601, in accordance with the Accomplishment Instructions of the service bulletin specified in paragraph (g)(1), (g)(2), or (g)(3) of this AD, as applicable. If any crack is found on any fuel pump canister hood half during any inspection, before further flight, replace the fuel pump canister hood half, in accordance with the Accomplishment Instructions of the service bulletin specified in paragraph (g)(1), (g)(2), or (g)(3) of this AD, as applicable.

(1) For Model A300 series airplanes: Airbus Mandatory Service Bulletin A300-28-0089, Revision 01, including Inspection Findings—Reporting Sheet, dated April 15, 2011; or Airbus Service Bulletin A300-28-0089, Revision 03, dated December 16, 2016. As of the effective date of this AD, only use Airbus Service Bulletin A300-28-0089, Revision 03, dated December 16, 2016.

(2) For Model A300-600 series airplanes: Airbus Mandatory Service Bulletin A300-28-6106, Revision 01, including Inspection Findings—Reporting Sheet, dated April 15, 2011; or Airbus Service Bulletin A300-28-6106, Revision 03, dated December 16, 2016. As of the effective date of this AD, only use Airbus Service Bulletin A300-28-6106, Revision 03, dated December 16, 2016.

(3) For Model A310 series airplanes: Airbus Mandatory Service Bulletin A310-28-2173, Revision 01, including Inspection Findings—Reporting Sheet, dated April 15, 2011; or Airbus Service Bulletin A310-28-2173, Revision 03, dated December 16, 2016. As of the effective date of this AD, only use Airbus Service Bulletin A310-28-2173, Revision 03, dated December 16, 2016.

(h) Retained Repetitive Inspections, With No Changes

This paragraph restates the requirements of paragraph (h) of AD 2012-21-04, with no changes. Within 30 months after accomplishing the actions specified in paragraph (g) of this AD, and thereafter at intervals not to exceed 30 months, repeat the detailed inspection specified in paragraph (g) of this AD.

(i) New Repetitive Inspections and Replacement of the Outer Tank and Trim Tank Fuel Pump Canister Hood Halves

Within 30 months after the effective date of this AD, do a detailed inspection for cracking of the outer tank and trim tank, as applicable, fuel pump canister hood halves installed on all fuel pump canisters having part numbers (P/N) 2052C11, 2052C12, and C93R51-601, in accordance with the Accomplishment Instructions of the service bulletin specified in paragraph (i)(1), (i)(2), or (i)(3) of this AD, as applicable. Repeat the inspection thereafter at intervals not to exceed 30 months. If any crack is found on any fuel pump canister hood half during any inspection, before further flight, replace the fuel pump canister hood half, in accordance with the Accomplishment Instructions of the service bulletin specified in paragraph (i)(1), (i)(2), or (i)(3) of this AD, as applicable.

(1) For Model A300 series airplanes: Airbus Service Bulletin A300-28-0089, Revision 03, dated December 16, 2016.

(2) For Model A300-600 series airplanes: Airbus Service Bulletin A300-28-6106, Revision 03, dated December 16, 2016.

(3) For Model A310 series airplanes: Airbus Service Bulletin A310-28-2173, Revision 03, dated December 16, 2016.

(j) New Optional Terminating Actions

Replacement of the fuel pump canister hood halves installed on all fuel pump canisters having P/Ns 2052C11, 2052C12, and C93R51-601, constitutes terminating action for the inspections required by paragraphs (g) and (h) of this AD. The replacement of the fuel pump canister hood halves must be done in accordance with the Accomplishment Instructions of the service information specified in paragraph (j)(1), (j)(2), or (j)(3) of this AD, as applicable.

(1) For Model A300 series airplanes: Airbus Service Bulletin A300-28-0092, Revision 01, dated August 29, 2014 (for wing center and inner tank fuel pump canister hood halves); and Airbus Service Bulletin A300-28-0094, Revision 00, dated January 9, 2017 (for outer tank fuel pump canister hood halves).

(2) For Model A300-600 series airplanes: Airbus Service Bulletin A300-28-6110, Revision 01, dated August 29, 2014 (for wing center and inner tank fuel pump canister hood halves); and Airbus Service Bulletin A300-28-6114, Revision 00, dated January 9, 2017 (for outer tank and trim tank fuel pump canister hood halves).

(3) For Model A310 series airplanes: Airbus Service Bulletin A310-28-2175, Revision 01, dated August 29, 2014 (for wing center and inner tank fuel pump canister hood halves); and Airbus Service Bulletin A310-28-2178, Revision 00, January 9, 2017 (for outer tank and trim tank fuel pump canister hood halves).

(k) Credit for Previous Actions

(1) This paragraph provides credit for the actions required by paragraph (g) of this AD, if those actions were performed before the effective date of this AD using the service information specified in paragraph (k)(1)(i), (k)(1)(ii), or (k)(1)(iii) of this AD.

(i) Airbus Service Bulletin A300-28-0089, dated January 13, 2011; or Airbus Service Bulletin A300-28-0089, Revision 02, dated April 25, 2014.

(ii) Airbus Service Bulletin A300-28-6106, dated January 13, 2011; or Airbus Service Bulletin A300-28-6106, Revision 02, dated April 25, 2014.

(iii) Airbus Service Bulletin A310-28-2173, dated January 13, 2011; or Airbus Mandatory Service Bulletin A310-28-2173, Revision 02, dated April 25, 2014.

(2) This paragraph provides credit for the actions required by paragraph (h) of this AD, if those actions were performed before the effective date of this AD using the service information specified in paragraph (k)(2)(i), (k)(2)(ii), or (k)(2)(iii) of this AD.

(i) Airbus Service Bulletin A300-28-0089, dated January 13, 2011; Airbus Service Bulletin A300-28-0089, Revision 01, dated April 15, 2011; or Airbus Service Bulletin A300-28-0089, Revision 02, dated April 25, 2014.

(ii) Airbus Service Bulletin A300-28-6106, dated January 13, 2011; Airbus Service Bulletin A300-28-6106, Revision 01, dated April 15, 2011; or Airbus Service Bulletin A300-28-6106, Revision 02, dated April 25, 2014.

(iii) Airbus Service Bulletin A310-28-2173, dated January 13, 2011; Airbus Service Bulletin A310-28-2173, Revision 01, dated April 15, 2011; or Airbus Service Bulletin A310-28-2173, Revision 02, dated April 25, 2014.

(3) This paragraph provides credit for the actions specified in paragraph (j) of this AD, if those actions were performed before the effective date of this AD using Airbus Service Bulletin A300-28-6110, Revision 00, dated November 28, 2013.

(l) Other FAA AD Provisions

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (m)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2012-21-04, Amendment 39-17220 (77 FR 64701, October 23, 2012), are not approved as AMOCs with this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA AD 2017-0051, dated March 23, 2017, for related information. This MCAI may be found in the AD docket on the Internet at http://www.regulations.gov by searching for and locating Docket No. FAA-2017-0714.

(2) For more information about this AD, contact Dan Rodina, Aerospace Engineer, International Branch, ANM-116, Transport Airplane Directorate, FAA, 1601 Lind Avenue SW., Renton, WA 98057-3356; telephone: 425-227-2125; fax: 425-227-1149.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this service information at the FAA, Transport Airplane Directorate, 1601 Lind Avenue SW., Renton, WA. For information on the availability of this material at the FAA, call 425-227-1221.

Issued in Renton, Washington, on July 19, 2017.
Michael Kaszycki,
Acting Manager, Transport Airplane Directorate, Aircraft Certification Service.

[FR Doc. 2017-16052 Filed 8-1-17; 8:45 am]

BILLING CODE 4910-13-P